DEPARTMENT OF ENERGY

Federal Energy Regulatory Commission

[Docket No. EL07-11-000]

Town of Stowe Electric Department, Town of Hardwick Electric Department, Village of Hyde Park Electric Department, Village of Johnson Water & Light Department, Village of Morrisville Water & Light, Department, Complainants v. Vermont Transco LLC, Vermont Electric Power Company, Respondents; Notice of Complaint

October 30, 2006.

Take notice that on October 23, 2006, the Town of Stowe Electric Department, the Town of Hardwick Electric Department, the Village of Hyde Park Electric Department, the Village of Johnson Water & Light Department, and the Village of Morrisville Water & Light Department (collectively, the “Lamoille County Systems) filed a formal complaint against Vermont Transco LLC and Vermont Electric Power Company (VELCO) pursuant to section 206 of the Federal Power Act and Rules 206 and 207 of the Commission's Rules of Practice and Procedure. The complaint alleges that the cost allocation provisions, and the lack of a withdrawal, expiration or termination provision, in the 1991 Transmission Agreement between Vermont Transco LLC (as successor to VELCO) and each of them, are unjust, unreasonable, unduly discriminatory and contrary to the public interest. The Lamoille County Systems request an order declaring that they are entitled to withdraw from said agreement upon reasonable notice and take network integration transmission service under Schedule 21-VTransco of the ISO New England Inc. FERC Electric Tariff No. 3.

The Lamoille County Systems certify that copies of the complaint were served on the contacts for Vermont Transco LLC and VELCO as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 13, 2006.

Magalie R. Salas,
Secretary.

[FR Doc. E6-18672 Filed 11-6-06; 8:45 am]

BILLING CODE 6717-01-P